DEPARTMENT OF HEALTH AND HUMAN SERVICES

National Institutes of Health

National Library of Medicine; Notice of Meeting

Pursuant to section 10(d) of the Federal Advisory Committee Act, as amended (5 U.S.C. Appendix 2), notice is hereby given of the following meeting.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Biomedical Library Review Committee.

Date: March 7-8, 2001.

Closed: March 7, 2001, 8:30 a.m. to 11:30 a.m.

Agenda: To review and evaluate grant applications.

Place: National Library of Medicine, Board Room Bldg 38, 2E-09, 8600 Rockville Pike, Bethesda, MD 20894.

Open: March 7, 2001, 11:30 a.m. to 2 p.m.

Agenda: “Permanent Access to Electronic Information”, Associate Director, Library Operations, NLM.

Place: National Library of Medicine, Board Room Bldg 38, 2E-09, 8600 Rockville Pike, Bethesda, MD 20894.

Closed: March 7, 2001, 2 p.m. to 5 p.m.

Agenda: To review and evaluate grant applications.

Place: National Library of Medicine, Board Room Bldg 38, 2E-09, 8600 Rockville Pike, Bethesda, MD 20894.

Closed: March 8, 2001, 8:30 a.m. to 10:30 a.m.

Agenda: To review and evaluate grant applications.

Place: National Library of Medicine, Board Room Bldg 38, 2E-09, 8600 Rockville Pike, Bethesda, MD 20894.

Open: March 8, 2001, 10:30 a.m. to 11 a.m.

Agenda: Remarks by the Director, NLM.

Place: National Library of Medicine, Board Room Bldg 38, 2E-09, 8600 Rockville Pike, Bethesda, MD 20894.

Closed: March 8, 2001, 11 a.m. to 1 p.m.

Agenda: To review and evaluate grant applications.

Place: National Library of Medicine, Board Room Bldg 38, 2E-09, 8600 Rockville Pike, Bethesda, MD 20894.

Contact Person: Milton Corn, MD, Associate Director, Office of Extramural Programs, National Library of Medicine, National Institutes of Health, One Rockledge Centre, Suite 301, 6705 Rockledge Drive, MSC 6075, Bethesda, MD 20892-6075, 301-496-4621.

(Catalogue of Federal Domestic Assistance Program Nos. 93.879, Medical Library Assistance, National Institutes of Health, HHS)

Dated: February 9, 2001.
LaVerne Y. Stringfield,
Director, Office of Federal Advisory Committee Policy.

[FR Doc. 01-4089 Filed 2-16-01; 8:45 am]

BILLING CODE 4140-01-M